SMALL BUSINESS ADMINISTRATION

[Disaster Declaration #14958 and #14959]

Virginia Disaster Number VA-00065

AGENCY: U.S. Small Business Administration.

ACTION: Amendment 2.

SUMMARY: This is an amendment of the Presidential declaration of a major disaster for the Commonwealth of Virginia (FEMA-4291-DR), dated 11/02/2016.

Incident: Hurricane Matthew.

Incident Period: 10/07/2016 through 10/15/2016.

EFFECTIVE DATES: 11/17/2016.

Physical Loan Application Deadline Date: 01/03/2017.

EIDL Loan Application Deadline Date: 08/02/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the Commonwealth of Virginia, dated 11/02/2016 is hereby amended to include the following areas as adversely affected by the disaster:

Primary Counties: (Physical Damage and Economic Injury Loans): Hampton City, Portsmouth City, Suffolk City.

Contiguous Counties: (Economic Injury Loans Only):

Virginia: Isle of Wight, Poquoson City, Southampton.

North Carolina: Gates.

All other information in the original declaration remains unchanged.

(Catalog of Federal Domestic Assistance Number 59008)

James E. Rivera,
Associate Administrator for Disaster Assistance.

[FR Doc. 2016-28646 Filed 11-28-16; 8:45 am]

BILLING CODE 8025-01-P